SOCIAL SECURITY ADMINISTRATION

[Docket No: SSA-2022-0015]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Comments: https://www.reginfo.gov/public/do/PRAMain. Submit your comments online referencing Docket ID Number [SSA-2022-0015].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0015].

I. The information collections below are pending at SSA. SSA will submit them to OMB within 60 days from the date of this notice. To be sure we consider your comments, we must receive them no later than May 31, 2022. Individuals can obtain copies of the collection instruments by writing to the above email address.

1. Application for Widow's or Widower's Insurance Benefits—20 CFR 404.335-404.338, & 404.603—0960-0004. Section 2029(e) and 202(f) of the Social Security Act (Act) set forth the requirements for entitlement to widow(er)'s benefits, including the requirements to file an application. For SSA to make a formal determination for entitlement to widow(er)'s benefits, we use Form SSA-10 to determine whether an applicant meets the statutory and regulatory conditions for entitlement to widow(er)'s Title II benefits. SSA employees interview individuals applying for benefits either face-to-face or via telephone, and enter the information on the paper form or into the Modernized Claims System (MCS). The respondents are applicants for widow(er)'s benefits.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSA-10 (Paper) | 2,116 | 1 | 30 | 1,058 | * $27.07 |  | *** $28,640
SSA-10 (MCS) | 570,540 | 1 | 30 | 285,270 | * 27.07 | ** 21 | *** 13,127,840
Totals | 572,656 |  |  | 286,328 |  |  | *** 13,156,480
* We based this figure on the average U.S. worker's hourly wages, as reported by Bureau of Labor Statistics data (https://www.bls.gov/oes/current/oes_nat.htm#00-0000).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

2. Request to be Selected as a Payee—20 CFR 404.2010-404.2055, and 416.601-416.665—0960-0014. SSA requires an individual applying to be a representative payee for a Social Security beneficiary or Supplemental Security Income (SSI) recipient to complete Form SSA-11-BK, or supply the same information to a field office technician. SSA obtains information from applicant payees regarding their relationship to the beneficiary, personal qualifications; concern for the beneficiary's well-being; and intended use of benefits if appointed as payee. The respondents are individuals, private sector businesses and institutions, and State and local government institutions and agencies applying to become representative payees.

Type of Request: Revision of an OMB-approved information collection.

Modality of completion | Number of respondents | Frequency of response | Average burden per response (minutes) | Estimated total annual burden (hours) | Average theoretical hourly cost amount (dollars) * | Total annual opportunity cost (dollars) **
Individuals/Households (90%):
Representative Payee System (RPS) | 1,761,300 | 1 | 12 | 352,260 | * $39 | ** $13,738,140
Paper Version | 70,452 | 1 | 12 | 14,090 | * 39 | ** 549,510
Totals | 1,831,752 |  |  | 366,350 |  | ** 14,287,650
Private Sector (9%):
Representative Payee System (RPS) | 176,130 | 1 | 12 | 35,226 | * 39 | ** 1,373,814
Paper Version | 7,045 | 1 | 12 | 1,409 | * 39 | ** 54,951
Totals | 183,175 |  |  | 36,635 |  | ** 1,428,765
State/Local/Tribal Government (1%):
Representative Payee System (RPS) | 19,570 | 1 | 12 | 3,914 | * 39 | ** 152,646
Paper Version | 350 | 1 | 12 | 70 | * 39 | ** 2,730
Totals | 19,920 |  |  | 3,984 |  | ** 155,376
Grand Totals | 2,034,847 |  |  | 406,969 |  | ** 15,871,791
* We based these figures by averaging the average hourly wages for Social and Human Service Assistants (https://www.bls.gov/oes/current/oes211093.htm); average hourly wages for Lawyers (https://www.bls.gov/oes/current/oes231011.htm); and the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

3. Statement for Determining Continuing Eligibility for Supplemental Security Income Payment—20 CFR 416.204—0960-0145. SSA uses Form SSA-8202-BK to conduct low and middle-error profile (LEP/MEP) telephone, or face-to-face redetermination interviews with SSI recipients and representative payees, if applicable. SSA conducts LEP redeterminations interviews on a 6-year cycle, and MEP redeterminations annually. SSA requires the information we collect during the interview to determine whether: (1) SSI recipients met, and continue to meet, all statutory and regulatory requirements for SSI eligibility; and (2) the SSI recipients received, and are still receiving, the correct payment amounts. This information includes non-medical eligibility factors such as income, resources, and living arrangements. To complete Form SSA-8202-BK, the respondents may need to obtain information from employers or financial institutions. The respondents are SSI recipients and their representatives, if applicable.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSA-8202-BK | 67,698 | 1 | 21 | 23,694 | * $10.95 |  | *** $259,449
SSI Claims System | 1,764,207 | 1 | 20 | 588,069 | * 10.95 | ** 21 | *** 13,200,674
Totals | 1,831,905 |  |  | 611,763 |  |  | *** 13,460,123
* We based this figure on the average DI payments based on SSA's current FY 2021 data (https://www.ssa.gov/legislation/2021FactSheet.pdf).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

4. Application for Supplemental Security Income—20 CFR 416.305-416.335, Subpart C—0960-0444. SSA uses Form SSA-8001-BK to determine an applicant's eligibility for SSI and SSI payment amounts. SSA employees also collect this information during interviews with members of the public who wish to file for SSI. SSA uses the information for two purposes: (1) To formally deny SSI for nonmedical reasons when information the applicant provides results in ineligibility; or (2) to establish a disability claim, but defer the complete development of non-medical issues until SSA approves the disability. The respondents are applicants for SSI payments.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSI Claims System | 800,963 | 1 | 20 | 266,988 | * $19.01 | ** 21 | *** $10,404,648
iClaim and SSI Claims System | 129,736 | 1 | 20 | 43,245 | * 19.01 | ** 21 | *** 1,685,294
SSA-8001-BK (Paper Version) | 31,776 | 1 | 20 | 10,592 | * 19.01 | ** 21 | *** 412,783
Totals | 962,475 |  |  | 320,825 |  |  | *** 12,502,725
* We based this figure by averaging both the average DI payments based on SSA's current FY 2021 data (https://www.ssa.gov/legislation/2021FactSheet.pdf), and the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

5. Employer Verification of Records for Children Under Age 7—20 CFR 404.801-404.803, and 404.821-404.822—0960-0505. To ensure we credit the correct person with the reported earnings, SSA verifies wage reports for children under age seven with the children's employers before posting to the earnings record. SSA uses form SSA-L3231, Request for Employer Information for this purpose. SSA technicians mail the form to the employer(s) and request they complete it and mail it back to the appropriate processing center. The respondents are employers who report earnings for children under age seven.

Type of Request: Revision of an OMB-approved information collection.

Modality of completion | Number of respondents | Frequency of response | Average burden per response (minutes) | Estimated total annual burden (hours) | Average theoretical hourly cost amount (dollars) * | Total annual opportunity cost (dollars) **
SSA-L3231 | 4,633 | 1 | 10 | 772 | * $27.07 | ** $20,898
* We based this figure on the average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

6. Wage Reports and Pension Information—20 CFR 422.122(b)—0960-0547. Pension plan administrators annually file plan information with the Internal Revenue Service, which then forwards the information to SSA. SSA maintains and organizes this information by plan number, plan participant's name, and Social Security number. Per Section 1131(a) of the Act, pension plan participants are entitled to request this information from SSA. The Wage Reports and Pension Information regulation, 20 CFR 422.122(b) of the Code of Federal Regulations, stipulates that before SSA disseminates this information, the requestor must first submit a written request with identifying information to SSA. The respondents are requestors of pension plan information.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Requests for Pension Plan Information | 580 | 1 | 30 | 290 | * $27.07 | ** 19 | *** 12,831
* We based this figure on the average U.S. worker's hourly wages, as reported by Bureau of Labor Statistics data (https://www.bls.gov/oes/current/oes_nat.htm#00-0000).
** We based this figure on the average FY 2022 wait times for teleservice centers, based on SSA's current management information data.
*** This figure does not represent actual costs that SSA is imposing on recipients of Social Security payments to complete this application; rather, these are theoretical opportunity costs for the additional time respondents will spend to complete the application. There is no actual charge to respondents to complete the application.

7. Centenarian and Medicare Non-Utilization Project Development Worksheets: Face-to-Face Interview and Telephone Interview—20 CFR 416.204(b) and 422.135—0960-0780. SSA conducts interviews with centenary Title II beneficiaries and Title XVI recipients, and Medicare Non-Utilization Project (MNUP) beneficiaries age 90 and older to: (1) Assess if the beneficiaries are still living; (2) prevent fraud through identity misrepresentation; and (3) evaluate the well-being of the recipients to determine if they need a representative payee, or a change in representative payee. SSA field office personnel obtain the information through one-time, in-person interviews with the centenarians and MNUP beneficiaries, who are those Title II beneficiaries ages 90-99, who show non-utilization of Medicare benefits for an extended period and the absence of private insurance, health maintenance organization, or nursing home, which are all indicators that an individual may be deceased. If the centenarians and MNUP beneficiaries have representatives or caregivers, SSA personnel invite them to the interviews. During these interviews, SSA employees make overall observations of the centenarians, MNUP beneficiaries, and their representative payees (if applicable). The interviewer uses the appropriate Development Worksheet as a guide for the interview, in addition to documenting findings during the interview. SSA conducts the interviews either over the telephone or through a face-to-face discussion with the respondents either in a field office, or at the Centenarian or MNUP beneficiary's residence. Respondents are MNUP and Centenarian beneficiaries, and their representative payees, or their caregivers.

Type of Request: Revision of an OMB-approved information collection.

Modality of completion | Number of respondents | Frequency of response | Average burden per response (minutes) | Estimated total annual burden (hours) | Average theoretical hourly cost amount (dollars) ** | Average wait time in field office or teleservice centers (minutes) *** | Total annual opportunity cost (dollars) ****
Centenarian Project—Title XVI Only * | 194 | 1 | 15 | 49 | ** $27.07 | *** 21 | **** $3,167
MNUP—All Title II Responses | 4,210 | 1 | 15 | 1,053 | ** 27.07 | *** 21 | **** 68,406
Totals | 4,404 |  |  | 1,102 |  |  | **** 71,573
* Some cases are T2 rollovers from prior Centenarian workloads.
** We based this figure on the average U.S. worker's hourly wages, as reported by Bureau of Labor Statistics data (https://www.bls.gov/oes/current/oes_nat.htm#00-0000).
*** We based this figure by averaging the average FY 2022 wait times for field offices and teleservice centers, based on SSA's current management information data.
**** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than April 29, 2022. Individuals can obtain copies of these OMB clearance packages by writing to OR.Reports.Clearance@ssa.gov.

Farm Self-Employment Questionnaire—20 CFR 404.1082(c) & 404.1095—0960-0061. SSA collects the information on Form SSA-7156 on a voluntary and as-needed basis to determine the existence of an agriculture trade or business which may affect the monthly benefit, or insured status, of the applicant. SSA requires the existence of a trade or business before determining if an individual or partnership has net earnings from self-employment. When an applicant indicates self-employment as a farmer, SSA uses the SSA-7165 to obtain the information we need to determine the existence of an agricultural trade or business, and subsequent covered earnings for Social Security entitlement purposes. As part of the application process, we conduct a personal interview, either face-to-face or via telephone, and document the interview using Form SSA-7165. We also allow applicants to complete a fillable version of the form available on our website, which they can complete, print, and sign. The respondents are applicants for Social Security benefits whose entitlement depends on whether the worker received covered earnings from self-employment as a farmer.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSA-7156 | 1,000 | 1 | 10 | 167 | * $14.49 | ** 21 | *** $7,491
* We based this figure on average Farmworkers and Laborers, Crop, Nursery, and Greenhouse salaries, as reported by Bureau of Labor Statistics data (https://www.bls.gov/oes/current/oes452092.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

Dated: March 25, 2022.
Naomi Sipple,
Reports Clearance Officer, Social Security Administration.

[FR Doc. 2022-06700 Filed 3-29-22; 8:45 am]

BILLING CODE 4191-02-P